DEPARTMENT OF HEALTH AND HUMAN SERVICES

Centers for Medicare & Medicaid Services

[Document Identifier: CMS-10336]

Agency Information Collection Activities: Submission for OMB Review; Comment Request

AGENCY: Centers for Medicare & Medicaid Services.

In compliance with the requirement of section 3506I(2)(A) of the Paperwork Reduction Act of 1995, the Centers for Medicare & Medicaid Services (CMS), Department of Health and Human Services, is publishing the following summary of proposed collections for public comment. Interested persons are invited to send comments regarding this burden estimate or any other aspect of this collection of information, including any of the following subjects: (1) The necessity and utility of the proposed information collection for the proper performance of the Agency's function; (2) the accuracy of the estimated burden; (3) ways to enhance the quality, utility, and clarity of the information to be collected; and (4) the use of automated collection techniques or other forms of information technology to minimize the information collection burden.

1. Type of Information Collection Request: New collection; Title of Information Collection: Medicare and Medicaid Programs; Electronic Health Record Incentive Program; Use: The American Reinvestment and Recovery Act of 2009 (Recovery Act) (Pub. L. 111-5) was enacted on February 17, 2009. The Recovery Act includes many measures to modernize our nation's infrastructure, and improve affordable health care. Expanded use of health information technology (HIT) and certified electronic health records (EHRs) will improve the quality and value of American health care. Title IV of Division B of the Recovery Act amends Titles XVIII and XIX of the Social Security Act (the Act) by establishing incentive payments to EPs, eligible hospitals, and CAHs to promote the adoption and meaningful use of interoperable HIT and EHRs. These provisions, together with Title XIII of Division A of the Recovery Act, may be cited as the “Health Information Technology for Economic and Clinical Health Act” or the “HITECH Act.” The incentive payments for adoption and meaningful use of HIT and certified EHRs are part of a broader effort under the HITECH Act to accelerate the adoption of HIT and utilization of certified EHRs.

The HITECH Act creates incentives for EPs and eligible hospitals, including CAHs, in the Medicare Fee-for-Service (FFS), Medicare Advantage (MA), and Medicaid programs that meaningfully use certified EHR technology, and payment adjustments in the Medicare FFS and MA programs starting in FY 2015 for EPs and eligible hospitals participating in Medicare that are not meaningful users of certified EHR technology.

In the final rule that published July 28, 2010 (75 FR 44314), CMS establishes the definition of “meaningful use of certified EHR technology” and describes the use of HIT to advance the goals of information exchange among healthcare professionals and hospitals. As required by section 3004(b)(l) of the Public Health Service Act (amended by section 13101 of the HITECH Act), the “certified EHR technology” with which to demonstrate “meaningful use” will be determined in a rulemaking document provided by the Office of the National Coordinator for Health Information Technology (ONC). The functionality of certified EHR technology should facilitate the implementation of meaningful use.

The information collection requirements contained in this information collection request are needed to implement the HITECH Act. In order to avoid duplicate payments, all EPs are enumerated through their NPI, while all eligible hospitals and CAHs will also be enumerated through their CCN. State Medicaid agencies and CMS will use the provider's TIN and NPI or CCN combination in order to make payment, validate payment eligibility and detect and prevent duplicate payments for EPs, eligible hospitals and CAHs. Form Number: CMS-10336 (OMB#: 0938-New); Frequency: Occasionally; Affected Public: State, Local and Tribal governments, Private Sector: Business or other for-profits and not-for-profit institutions; Number of Respondents: 1,448,895 Total Annual Responses: 2,099,458; Total Annual Hours: 6,344,458. (For policy questions regarding this collection contact Rachel Maisler at 410-786-5754. For all other issues call 410-786-1326.)

To obtain copies of the supporting statement and any related forms for the proposed paperwork collections referenced above, access CMS Web Site address at http://www.cms.hhs.gov/PaperworkReductionActof1995, or E-mail your request, including your address, phone number, OMB number, and CMS document identifier, to Paperwork@cms.hhs.gov, or call the Reports Clearance Office on (410) 786-1326.

To be assured consideration, comments and recommendations for the proposed information collections must be received by the OMB desk officer at the address below, no later than 5 p.m. on November 22, 2010. OMB, Office of Information and Regulatory Affairs, Attention: CMS Desk Officer, Fax Number: (202) 395-6974, E-mail: OIRA_submission@omb.eop.gov.

Dated: October 18, 2010.
Martique Jones,
Director, Regulations Development Group, Division B, Office of Strategic Operations and Regulatory Affairs.

[FR Doc. 2010-26516 Filed 10-21-10; 8:45 am]

BILLING CODE 4120-01-P